DEPARTMENT OF JUSTICE

[OMB Number 1100-0049]

Agency Information Collection Activities; Proposed eCollection eComments Requested; Revision of a Previously Approved Collection; InfraGard Membership Application and Profile Questionnaire

AGENCY: Federal Bureau of Investigation, Department of Justice.

ACTION: 60-Day notice.

SUMMARY: The Federal Bureau of Investigation, Department of Justice (DOJ), will be submitting the following information collection request to the Office of Management and Budget (OMB) for review and approval in accordance with the Paperwork Reduction Act of 1995.

DATES: Comments are encouraged and will be accepted for 60 days until January 23, 2024

FOR FURTHER INFORMATION CONTACT: If you have additional comments especially on the estimated public burden or associated response time, suggestions, or need a copy of the proposed information collection instrument with instructions or additional information, please contact Tiffany Locklear, Unit Chief Federal Bureau of Investigation, 935 Pennsylvania Ave., Washington, DC 20535, email: tllocklear@fbi,gov, telephone: 202-436-7627.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

This collection is used by the FBI's Office of Private Sector to vet applicant's for InfraGard membership. InfraGard is a Public/Private Alliance with a purpose of sharing intelligence and criminal information between the FBI and the private sector about threats and infrastructure vulnerabilities.

Overview of This Information Collection

1. Type of Information Collection: Revision of a previously approved collection.

2. The Title of the Form/Collection: InfraGard Membership Application and Profile Questionnaire.

3. The agency form number, if any, and the applicable component of the Department sponsoring the collection: N/A.

4. Affected public who will be asked or required to respond, as well as the obligation to respond: The public affected is individuals or households. The obligation to respond is voluntary.

5. An estimate of the total number of respondents and the amount of time estimated for an average respondent to respond: Approximately 11,000 people complete the application annually, taking approximately 30 minutes to complete.

6. An estimate of the total annual burden (in hours) associated with the collection: Ex: The estimated total annual burden hours for this collection is 5,500 hours.

7. An estimate of the total annual cost burden associated with the collection, if applicable: N/A.

Total Burden Hours
Activity | Number of respondents | Frequency | Total annual responses | Time per response (mins.) | Total annual burden (hours)
Complete Application | 11,000 | 1/annually | 11,000 | 30 | 5,500

If additional information is required contact: Darwin Arceo, Department Clearance Officer, United States Department of Justice, Justice Management Division, Policy and Planning Staff, Two Constitution Square, 145 N Street NE, 4W-218, Washington, DC.

Dated: November 17, 2023.
Darwin Arceo,
Department Clearance Officer for PRA, U.S. Department of Justice.

[FR Doc. 2023-25916 Filed 11-22-23; 8:45 am]

BILLING CODE 4410-02-P